ENVIRONMENTAL PROTECTION AGENCY

[EPA-HQ-OPP-2009-0735; FRL-8794-2]

Pesticide Products; Registration Applications

AGENCY: Environmental Protection Agency (EPA).

ACTION: Notice.

SUMMARY: This notice announces receipt of applications to register new uses for pesticide products containing currently registered active ingredients, pursuant to the provisions of section 3(c) of the Federal Insecticide, Fungicide, and Rodenticide Act (FIFRA), as amended. EPA is publishing this notice of receipt of applications to register new uses, pursuant to section 3(c)(4) of FIFRA.

DATES: Comments must be received on or before November 25, 2009.

ADDRESSES: Submit your comments, identified by the docket identification (ID) number and the registration number and/or file symbol for the pesticide of interest as shown in the registration application summary, by one of the following methods:

• Federal eRulemaking Portal: http://www.regulations.gov: Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility’s normal hours of operation (8:30 a.m. to 4 p.m., Monday through Friday, excluding legal holidays). Special arrangements should be made for deliveries of boxed information. The Docket Facility telephone number is (703) 305-5805.

Instructions: Direct your comments to the docket ID number specified for the pesticide of interest as shown in the registration application summaries. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov: Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person is listed at the end of each registration application summary and may be contacted by telephone or e-mail. The mailing address for each contact person listed is: Registration Division (7505P), Office of Pesticide Programs, Environmental Protection Agency, 1200 Pennsylvania Ave., NW., Washington, DC 20460-0001.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under in the registration application summary.

B. What Should I Consider as I Prepare My Comments for EPA?

1. Submitting CBI: Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments: When submitting comments, remember to:

i. Identify the document by docket ID number and other identifying information (subject heading, Federal Register date and page number). If you are commenting in a docket that addresses multiple products, please indicate to which registration number(s) your comment applies.

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Registration Applications

EPA received applications as follows to register new uses of pesticide products containing currently registered active ingredients pursuant to the provisions of section 3(c) of FIFRA, and is publishing summaries of the notices of receipt of applications pursuant to section 3(c)(4) of FIFRA. Notice of receipt of these applications for new uses does not imply a decision by the Agency on the applications.

1. Registration Number/File Symbol: 100-763. Docket Number: EPA-HQ-OPP-2008-0276. Company name and address: Syngenta Crop Protection, Inc, P.O. Box 18300, Greensboro, NC 27419. Active ingredient: Prosulfuron. Proposed Use: Cereal grains (except rice and wild rice), crop group 15. Contact: Jim Tompkins, (703) 305-5697, tompkins.jim@epa.gov.

2. Registration Number/File Symbol: 100-RGEI, 100-811. Docket Number: EPA-HQ-OPP-2009-0719. Company name and address: Syngenta Crop Protection, P.O. Box 18300, Greensboro, NC 27419. Active ingredient: Cyprodinil. Proposed Use: Ornamentals. Contact: Lisa Jones, (703) 308-9424, jones.lisa@epa.gov.

3. Registration Number/File Symbol: 100-993. Docket Number: EPA-HQ-OPP-2009-0575. Company name and address: Syngenta Crop Protection, P.O. Box 18300, Greensboro, NC 27419. Active ingredient: Fomesafen. Proposed Uses: Potato, tomato. Contact: Michael Walsh, (703) 308-2972, walsh.michael@epa.gov.

4. Registration Number/File Symbol: 100-1159. Docket Number: EPA-HQ-OPP-2007-0416. Company name and address: Syngenta Crop Protection, P.O. Box 18300, Greensboro, NC 27419. Active ingredient: Azoxystrobin. Proposed Uses: Seed treatment application for head and stem Brassica, subgroup 5A; sorghum. Contact: John Bazuin, (703) 305-7381, bazuin.john@epa.gov.

5. Registration Number/File Symbol: 100-1204. Docket Number: EPA-HQ-OPP-2009-0733. Company name and address: Syngenta Crop Protection, P.O. Box 18300, Greensboro, NC 27419. Active ingredient: Avermectin. Proposed Use: Soybean seed treatment. Contact: Thomas C. Harris, (703) 308-9423, harris.thomas@epa.gov.

6. Registration Number/File Symbol: 100-1294. Docket Number: EPA-HQ-OPP-2009-0737. Company name and address: Syngenta Crop Protection, P.O. Box 18300, Greensboro, NC 27419. Active ingredient: Thiamethoxam. Proposed Use: Seed treatment on dry bulb onion seeds. Contact: Julie Chao, (703) 308-8735, chao.julie@epa.gov.

7. Registration Number/File Symbol: 241-245, 241-418. Docket Number: EPA-HQ-OPP-2008-0876. Company name and address: BASF Corporation, 26 Davis Drive, Research Triangle Park, NC 27709. Active ingredient: Pendimethalin. Proposed Use: Grass. Contact: Philip V. Errico, (703) 305-6663, errico.philip@epa.gov.

8. Registration Number/File Symbol: 264-718, 264-719, 264-850. Docket Number: EPA-HQ-OPP-2008-0262 Company name and address: Bayer CropScience, P.O. Box 12014, 2 T.W. Alexander Drive, Research Triangle Park, NC 27709. Active ingredient: Spiromesifin. Proposed Use: Vegetable, bulb, crop group 3-07. Contact: Jennifer Gaines, (703) 305-5967, gaines.jennifer@epa.gov.

9. Registration Number/File Symbol: 264-748, 264-752. Docket Number: EPA-HQ-OPP-2009-0611. Company name and address: Bayer CropScience, P.O. Box 12014, 2 T.W. Alexander Drive, Research Triangle Park, NC 27709. Active ingredient: Tebuconazole. Proposed Use: Fruiting vegetables, crop group 8. Contact: Tracy Keigwin, (703) 305-6605, Keigwin.tracy@epa.gov.

10. Registration Number/File Symbol: 264-749. Docket Number: EPA-HQ-OPP-2005-0097. Company name and address: Bayer CropScience, P.O. Box 12014, 2 T.W. Alexander Drive, Research Triangle Park, NC 27709. Active ingredient: Tebuconazole. Proposed Use: Post-harvest cherry application. Contact: Tracy Keigwin, (703) 305-6605, Keigwin.tracy@epa.gov.

11. Registration Number/File Symbol: 264-755, 264-827. Docket Number: EPA-HQ-OPP-2008-0772. Company name and address: Bayer CropScience, P.O. Box 12014, 2 T.W. Alexander Drive, Research Triangle Park, NC 27709. Active ingredient: Imidacloprid. Proposed Uses: Vegetable, bulb, crop group 3; cereal, grain, crop group 15. Contact: Kable Bo Davis, (703) 306-0415, davis.kable@epa.gov.

12. Registration Number/File Symbol: 264-990. Docket Number: EPA-HQ-OPP-2006-0283. Company name and address: Bayer CropScience, 2 T.W. Alexander Drive, Research Triangle Park, NC 27709. Active ingredient: Thiophanate-methyl. Proposed Uses: Sweet corn and sunflower seeds. Contact: Lisa Jones, (703) 308-9424, jones.lisa@epa.gov.

13. Registration Number/File Symbol: 264-1007, 247-1011. Docket Number: EPA-HQ-OPP-2007-0004. Company name and address: Bayer CropScience LP, 2 T.W. Alexander Drive, Research Triangle Park, NC 27709. Active ingredient: Deltamethrin. Proposed Use: Flax. Contact: Olga Odiott, (703) 308-9369, odiott.olga@epa.gov.

14. Registration Number/File Symbol: 264-RNIR. Dockets Number: EPA-HQ-OPP-2008-0771 (clothianidin) and 2008-0772 (imidicloprid). Company name and address: Bayer CropScience, P.O. Box 12014, 2 T.W. Alexander Drive, Research Triangle Park, NC 27709. Active ingredients: Clothianidin and Imidacloprid. Proposed Uses: Clothianidin: Vegetable, root, except sugar beet, subgroup 1B; vegetable, tuberous and corm, subgroup 1C; vegetable, bulb, crop group 3; vegetable, leafy greens, except Brassica, subgroup 4A; vegetable, Brassica, leafy, crop group 5; vegetable, fruiting, crop group 8; vegetable, cucurbit, crop group 9; cereal grain, except rice, crop group 15; wheat; Imidacloprid: Vegetable, bulb, crop group 3; cereal grain, crop group 15. Contact: Kable Bo Davis, (703) 306-0415, davis.kable@epa.gov.

15. Registration Number/File Symbol: 264-RNIE. Docket Number: EPA-HQ-OPP-2008-0771. Company name and address: Bayer CropScience, P.O. Box 12014, 2 T.W. Alexander Drive, Research Triangle Park, NC 27709. Active ingredienst: Clothianidin, Prothioconazole, Tebuconazole, Metalaxyl. Proposed Uses: Vegetable, root, except sugar beet, subgroup 1B; vegetable, tuberous and corm, subgroup 1C; vegetable, bulb, crop group 3; vegetable, leafy greens, except Brassica, subgroup 4A; vegetable, Brassica, leafy, crop group 5; vegetable, fruiting, crop group 8; vegetable, cucurbit, crop group 9; cereal grain, except rice, crop group 15; wheat. Contact: Kable Bo Davis, (703) 306-0415, davis.kable@epa.gov.

16. Registration Number/File Symbol: 264-830, 264-831. Docket Number: EPA-HQ-OPP-2009-0139. Company name and address: Bayer CropScience, P.O. Box 12014, 2 T.W. Alexander Drive, Research Triangle Park, NC 27709. Active ingredient: Spirodiclofen. Proposed Uses: Avocado, black sapote, canistel, mamey sapote, mango, papaya, sapodilla, star apple. Contact: Rita Kumar, (703) 308-8291, kumar.rita@epa.gov.

17. Registration Number/File Symbol: 264-1049, 264-1050, 264-1051, 264-1065. Docket Number: EPA-HQ-OPP-2009-0263. Company name and address: Bayer CropScience, P.O. Box 12014, 2 T.W. Alexander Drive, Research Triangle Park, NC 27709. Active ingredient: Spirotetramat. Proposed Uses: Cotton; soybeans; vegetables, legume, crop group 6; acerola; atemoya; avocado; birida; black sapote; canistel; cherimoya; custard apple; feijoa; jaboticaba; guava; Ilama; longan; mamey sapota; mango; papaya; passionfruit; persimmon; pulasan; rambutan; sapodilla; soursop; Spanish lime; star apple; starfruit; sugar apple; wax jambu; white sapote; lychee; okra; pistachio; dried prune. Contact: Rita Kumar, (703) 308-8291, kumar.rita@epa.gov.

18. Registration Number/File Symbol: 352-IEO. Docket Number: EPA-HQ-OPP-2007-0950. Company name and address: E.I. du Pont de Nemours & Company, DuPont Crop Protection, P.O. Box 30, Newark, DE 19714. Active ingredient: Clorantraniliprole. Proposed Use: Termiticide.Contact: Kable Bo Davis, (703) 306-0415, davis.kable@epa.gov.

19. Registration Number/File Symbol: 352-IER. Docket Number: EPA-HQ-OPP-2009-0738. Company name and address: E.I. du Pont de Nemours & Company, DuPont Crop Protection, P.O. Box 30, Newark, DE 19714. Active ingredient: Indoxacarb. Proposed Use: Termiticide. Contact: Julie Chao, (703) 308-8735, chao.julie@epa.gov.

20. Registration Number/File Symbol: 352-400 and 352-532. Docket Number: EPA-HQ-OPP-2007-0219. Company name and address: E.I. DuPont de Nemours and Company, P.O. Box 30, Newark, DE 19714. Active ingredient: Oxamyl. Proposed Use: Sugar beets. Contact: Thomas C. Harris, (703) 308-9423, harris.thomas@epa.gov.

21. Registration Number/File Symbol: 352-436. Docket Number: EPA-HQ-OPP-2009-0009. Company name and address: E.I. du Pont de Nemours and Company, P.O. Box 30, Newark, DE 19714. Active ingredient: Chlorimuron Ethyl. Proposed Uses: Preemergence and postemergence control of annual grasses and broadleaf weeds on OPTIMUM GAT herbicide tolerant corn and soybeans. Contact: Mindy Ondish, (703) 605-0723, ondish.mindy@epa.gov.

22. Registration Number/File Symbol: 352-632. Docket Number: EPA-HQ-OPP-2009-0005. Company name and address: E.I. du Pont de Nemours and Company, P.O. Box 30, Newark, DE 19714. Active ingredient: Tribenuron Methyl. Proposed Uses: Pre-plant burndown treatment, postemergence, and/or post-harvest control of broadleaf weeds on OPTIMUM GAT herbicide tolerant field corn and soybeans. Contact: Mindy Ondish, (703) 605-0723, ondish.mindy@epa.gov.

23. Registration Number/File Symbol: 352-748. Docket Number: EPA-HQ-OPP-2009-0009. Company name and address: E.I. du Pont de Nemours and Company, P.O. Box 30, Newark, DE 19714. Active ingredient: Rimsulfuron. Proposed Uses: Preemergence and postemergence control of annual grasses and broadleaf weeds on OPTIMUM GAT herbicide tolerant corn and soybeans. Contact: Mindy Ondish, (703) 605-0723, ondish.mindy@epa.gov.

24. Registration Number/File Symbol: 352-728, 352-729, 352-730, 352-IEN. Docket Number: EPA-HQ-OPP-2009-0261. Company name and address: E.I. du Pont de Nemours & Company, DuPont Crop Protection, P.O. Box 30, Newark, DE 19714. Active ingredient: Chlorantraniliprole. Proposed Uses: Vegetables, roots, subgroup 1C; corn; tree nuts, group 14; pistachio; corn; egg; peanut; ti palm; cacao bean; rice; hare’s ear mustard; jojoba; lesquerella; lunaria; milkweed; mustard; oil radish; poppy seed; rapeseed/canola; rose hip; sesame; tallowwood; tea oil plant; coffee; okra; strawberry; fruit, pome, group 11; fruit, citrus, group 10; pineapple; fruit, caneberry, subgroup 13-07A; acerola; jaboticaba; lychee; papaya; passionfruit; vegetables, legume, group 6, except soybeans; apple, wet pomace; fruit, small vine climbing, subgroup 13-07D; artichoke; atemoya; avocado; banana; biriba; black sapote; canistel; cherimoya; custard apple; feijoa; figs; fruit, stone, group 12; guava; lama; longan; mango; olive; persimmon; pomegranate; pulasan; rambutan; sapodilla; sapote, mamey; soursop; Spanish lime; star apple; starfruit; sugar apple; wax jambu; white sapote (casimiroa) and other cultivars and/or hybrids; almond; raisins; herbs and spices, subgroups 19A and 19B, spices; crayfish; mint; vegetables, Brassica leafy, group 5; asparagus; prickly pear cactus; sugarcane; cereal grains; vegetable, foliage of legume, group 7; grass; hops. Contact: Kable Bo Davis, (703) 306-0415, davis.kable@epa.gov.

25. Registration Number/File Symbol: 400-480, 400-514. Docket Number: EPA-HQ-OPP-2008-0126. Company name and address: Chemtura U.S.A. Corporation, 199 Benson Road, Middlebury, CT 06749. Active ingredient: Bifenazate. Proposed Uses: Bean, dry, seed; grass. Contact: Jennifer Gaines, (703) 305-5967, gaines.jennifer@epa.gov.

26. Registration Number/File Symbol: 773-OG. Docket Number: EPA-HQ-OPP-2009-0740. Company name and address: Schering-Plough Animal Health; 56 Livingston Avenue, Roseland, NJ 07068. Active ingredient: Indoxacarb. Proposed Use: Spot-on to control fleas on cats. Contact: Julie Chao, (703) 308-8735, chao.julie@epa.gov.

27. Registration Number/File Symbol: 773-OU. Docket Number: EPA-HQ-OPP-2009-0739. Company name and address: Schering-Plough Animal Health; 56 Livingston Avenue, Roseland, NJ 07068. Active ingredient: Indoxacarb. Proposed Use: Spot-on to control fleas on dogs. Contact: Julie Chao, (703) 308-8735, chao.julie@epa.gov.

28. Registration Number/File Symbol: 4822-LAI. Docket Number: EPA-HQ-OPP-2009-0720. Company name and address: S.C. Johnson & Son, 1525 Howe St., Racine, WI 53403. Active ingredient: Bifenthrin. Proposed Use: Indoor fogger. Contact: BeWanda Alexander, (703) 305-7460, alexander.bewanda@epa.gov.

29. Registration Number/File Symbol: 7969-EIT. Docket Number: EPA-HQ-OPP-2009-0276. Company name and address: BASF Corporation, 26 Davis Drive, Research Triangle Park, NC 27709. Active ingredient: Triticonazole. Proposed Use: Cereal grains (except rice) crop group 15. Contact: Bryant Crowe, (703) 305-0025, crowe.bryant@epa.gov.

30. Registration Number/File Symbol: 7969-226, 7969-ETN. Docket Number: EPA-HQ-OPP-2008-168. Company name and address: BASF Corporation, 26 Davis Drive, Research Triangle Park, NC 27709. Active ingredient: Metaflumizone. Proposed Use: Fire ant bait for use in citrus, grape, and tree nut orchards. Contact: Julie Chao, (703) 308-8735, chao.julie@epa.gov.

31. Registration Number/File Symbol: 7969-266. Docket Number: EPA-HQ-2007-0214. Company name and address: BASF Corporation, P.O. Box 13528, 26 Davis Drive, Research Triangle Park, NC 27709. Active ingredient: Pyraclostrobin. Proposed Uses: Seed treatment of oat and rapeseed (including canola and crambe). Contact: John Bazuin, (703) 305-7381, bazuin.john@epa.gov.

32. Registration Number/File Symbol: 7969-EOG. Docket Number: EPA-HQ-OPP-2009-0736. Company name and address: BASF Corporation, 26 Davis Drive, Research Triangle Park, NC 27709. Active ingredient: Metaflumizone. Proposed Use: Fly control bait. Contact: Julie Chao, (703) 308-8735, chao.julie@epa.gov.

33. Registration Number/File Symbol: 8033-20, 8033-23, 8033-36, 8033-94. Docket Number: EPA-HQ-OPP-2009-0289. Company name and address: Nippon Soda Co., Ltd, c/o Nisso America Inc., 45 Broadway, Suite 2120; New York, NY 10006. Active ingredient: Acetamiprid. Proposed Uses: Clover (ID, WA, and OR only); greenhouse-grown tomatoes; tea; small fruit, vineclimbing, except fuzzy kiwi, subgroup 13-07F. Contact: Julie Chao, (703) 308-8735, chao.julie@epa.gov.

34. Registration Number/File Symbol: 10163-273 and 10163-275. Docket Number: EPA-HQ-OPP-2007-0536. Company name and address: Gowan Company, P.O. Box 5569, Yuma, AZ 85366. Active ingredient: Fenarimol. Proposed Use: Hops. Contact: Mary L. Waller, (703) 308-9354, waller.mary@epa.gov.

35. Registration Number/File Symbol: 10163-277. Docket Number: EPA-HQ-OPP-2007-0330. Company name and address: Gowan Company, P.O. Box 5569 Yuma, AZ 85366. Active ingredient: Hexythiazox. Proposed Use: Potato, Regional use (Pacific Northwest). Contact: Olga Odiott, (703) 308-9369, odiott.olga@epa.gov.

36. Registration Number/File Symbol: 10308-32. Docket Number: EPA-HQ-OPP-2008-0771. Company name and address: Valent U.S.A. Corporation, 1600 Riviera Avenue, Suite 200, Walnut Creek, CA 94596. Active ingredient: Clothianidin. Proposed Uses: Vegetable, root, except sugar beet, subgroup 1B; vegetable, tuberous and corm, subgroup 1C; vegetable, bulb, crop group 3; vegetable, leafy greens, except Brassica, subgroup 4A; vegetable, Brassica, leafy, crop group 5; vegetable, fruiting, crop group 8; vegetable, cucurbit, crop group 9; cereal grain, except rice, crop group 15; wheat. Contact: Kable Bo Davis, (703) 306-0415, davis.kable@epa.gov.

37. Registration Number/File Symbol: 10308-32, 59639-150, 59639-152. Docket Number: EPA-HQ-OPP-2008-0945. Company name and address: Valent U.S.A. Corporation, 1600 Riviera Avenue, Suite 200, Walnut Creek, CA 94596. Active ingredient: Clothianidin. Proposed Uses: Berry, low growing, subgroup 13-07H, except strawberry; peach; vegetable, tuberous and corm, subgroup 1C. Contact: Kable Bo Davis, (703) 306-0415, davis.kable@epa.gov.

38. Registration Number/File Symbol: 10308-32, 59639-150, 59639-152. Docket Number: EPA-HQ-OPP-2009-0262. Company name and address: Company name and address: Valent U.S.A. Corporation, 1600 Riviera Avenue, Suite 200, Walnut Creek, CA 94596. Active ingredient: Clothianidin. Proposed Uses: Fig; pomegranate. Contact: Kable Bo Davis, (703) 306-0415, davis.kable@epa.gov.

39. Registration Number/File Symbol: 11678-57 and 66222-35. Docket Number: EPA-HQ-OPP-2008-0769. Company name and address: Makhteshim-Agan of North America, Inc., 4515 Falls of Neuse Rd., Suite 300, Raleigh, NC 27609. Active ingredient: Novaluron. Proposed Uses: Bushberries, leafy Brassica greens, turnip greens and stone fruits. Contact: Jennifer Gaines, (703) 305-5967, gaines.jennifer@epa.gov.

40. Registration Number/File Symbol: 33657-10, 33657-17, 33657-38. Docket Number: EPA-HQ-OPP-2009-0013. Company name and address: Mitsui Chemicals, c/o Landis International Inc., P.O. Box 5126, Valdosta, GA 31603. Active ingredient: Dinotefuran. Proposed Use: Leafy Brassica greens, crop subgroup 5B; turnip greens. Contact: Rita Kumar, (703) 308-8291, kumar.rita@epa.gov.

41. Registration Number/File Symbol: 59639-RAR. Docket Number: EPA-HQ-OPP-2008-0781. Company name and address: Valent U.S.A. Corporation, 1600 Riviera Avenue, Suite 200, Walnut Creek, CA 94596. Active ingredient: Flumioxazin. Proposed Uses: General use for management of aquatic weeds in bayous, canals, fresh water ponds, lakes, marshes and reservoirs. Contact: James Stone, (703) 305-7391, stone.james@epa.gov.

42. Registration Number/File Symbol: 59639-95, 59639-114, 59639-115, 59639-160. Docket Number: EPA-HQ-OPP-2009-0018. Company name and address: Valent, U.S.A. Corporation, 1600 Riviera Avenue, suite 200, Walnut Creek, CA 94596. Active ingredient: Pyriproxyfen. Proposed Uses: Vegetable, leaves of root and tuber, group 2; fruit, small, vine climbing, except grape, subgroup 13-07E; artichoke, globe; asparagus and watercress. Contact: Kevin Sweeney, (703) 305-5063, sweeney.kevin@epa.gov.

43. Registration Number/File Symbol: 59639-135. Docket Number: EPA-HQ-OPP-2009-0013. Company name and address: Valent U.S.A. Corporation, 1600 Riviera Avenue, Suite 200, Walnut Creek, CA 94596. Active ingredient: Dinotefuran. Proposed Use: Leafy Brassica greens, crop subgroup 5B. Contact: Rita Kumar, (703) 308-8291, kumar.rita@epa.gov.

44. Registration Number/File Symbol: 62719-LIN. Docket Number: EPA-HQ-OPP-2007-0504. Company name and address: Dow Agro Sciences, 9330 Zionsville Rd., Indianapolis, IN 46268. Active ingredient: Isoxaben. Proposed Uses: Grape; tree nut, crop group 14; pistachio; almond hulls. Contact: Kathryn Montague, (703) 305-1243, montague.kathryn@epa.gov.

45. Registration Number/File Symbol: 62719-519. Docket Number: EPA-HQ-OPP-2009-0141. Company name and address: Dow Agro Sciences, 9330 Zionsville Rd., Indianapolis, IN 46268. Active ingredient: Aminopyralid. Proposed Use: Corn. Contact: Kathryn Montague, (703) 305-1243, montague.kathryn@epa.gov.

46. Registration Number/File Symbol: 62719-559, 62719-560, 62719-561. Docket Number: EPA-HQ-OPP-2006-0993. Company name and address: Dow Agro Sciences, 9330 Zionsville Rd., Indianapolis, IN 46268. Active ingredient: Florasulam. Proposed Use: Control of annual and perennial broadleaf weeds in established turfgrass. Contact: Dianne Morgan, (703) 305-6217, morgan.dianne@epa.gov.

47. Registration Number/File Symbol: 66330-64, 66330-65. Docket Number: EPA-HQ-OPP-2008-0704. Company name and address: Arysta LifeScience North America, 15401 Weston Parkway, Suite 150, Cary, NC 27513. Active ingredient: Fluoxastrobin. Proposed Uses: Low-growing berry, subgroup 13-07G; field corn; soybean. Contact: John Bazuin, (703) 305-7381, bazuin.john@epa.gov.

48. Registration Number/File Symbol: 67690-13, 67690-15, 67690-16, 67690-19, 67690-44, 67690-46. Docket Number: EPA-HQ-2009-0798. Company name and address: Sepro Corporation, 11550 North Meridian Street, Suite 600, Carmel, IN 46032. Active ingredient: Flurprimidol. Proposed Uses: Commercial and residential turf; ornamentals. Contact: Rosemary Kearns, (703) 305-5611, kearns.rosemary@epa.gov.

49. Registration Number/File Symbol: 70506-175, 70506-176, 70506-178. Docket Number: EPA-HQ-OPP-2008-0730. Company name and address: Cerexagri, Inc., 630 Freedom Business Center, Suite 402, King of Prussia, PA 19406. Active ingredient: Endothall. Proposed Use: Endothall on irrigated crops with treated water. Contact: Tracy White, (703) 308-0042, white.tracy@epa.gov.

50. Registration Number/File Symbol: 71512-1 and 71512-8. Docket Number: EPA-HQ-OPP-2009-0032. Company name and address: ISK Biosciences Corporation, 7470 Auburn Road, Suite A, Concord, OH 44077. Active ingredient: Fluazinam. Proposed Uses: Foliar treatment of head and leaf lettuce, bulb onions, subgroup 3-07A, carrots and apples. Contact: John Bazuin, (703) 305-7381, bazuin.john@epa.gov.

51. Registration Number/File Symbol: 71711-4, 71711-19. Docket Number: EPA-HQ-OPP-2008-0556. Company name and address: Nichino America, Inc., 4550 New Linden Hill Road Suite 501, Wilmington, DE, 19808. Active ingredient: Fenpyroximate. Proposed Use: Berry, low-growing, subgroup 13-07G. Contact: Rosanna Louie, (703) 308-0037, louie.rosanna@epa.gov.

52. Registration Number/File Symbol: 71711-5, 71711-28. Docket Number: EPA-HQ-OPP-2009-0553. Company name and address: Nichino America Inc., 4550 New Linden Hill Rd., Suite 501, Wilmington, DE 19808. Active ingredient: Flutolanil. Proposed Uses: Cotton; soybean; sugar beets. Contact: Lisa Jones, (703) 308-9424, jones.lisa@epa.gov.

53. Registration Number/File Symbol: 72642-2. Docket Number: EPA-HQ-OPP-2009-0616. Company name and address: Elanco Animal Health, A Division of Eli Lilly and Company, 2001 West Main Street, P.O. Box 708, Greenfield, IN 46140. Active ingredient: Spinosad. Proposed Use: Direct application to poultry. Contact: Samantha Hulkower, (703) 603-0683, hulkower.samantha@epa.gov.

54. Registration Number/File Symbol: 73049-UGI and 73049-UGO. Docket Number: EPA-HQ-OPP-2006-0986. Company name and address: Valent BioSciences Corporation, 870 Technology Way, Libertyville, IL 60048-6316. Active ingredient: Allethrins. Proposed Use: Food handling establishments. Contact: Carmen Rodia, (703) 306-0327, rodia.carmen@epa.gov.

55. Registration Numbers/File Symbol: 73545-9, 73545-11, 73545-13, 73545-16 and 73545-18. Docket Number: EPA-HQ-OPP-2006-0644. Company name and address: United Phosphorous Inc., 630 Freedom Business Center, Suite 402, King of Prussia, PA 19406. Active ingredient: Thiophanate-methyl. Proposed Uses: Bushberry, caneberry, leafy Brassica greens, turnip greens, ginseng, mushroom, tree nuts, tuberous and corm vegetables, tomato and tomatillo, mustard, cotton, sunflower and sweet corn. Contact: Lisa Jones, (703) 308-9424, jones.lisa@epa.gov.

56. Registration Number/File Symbol: 74280-2. Docket Number: EPA-HQ-OPP-2009-0715. Company name and address: Punjab Chemical and Crop Protection, c/o Source Dynamics LLC, 10039 E. Troon North Drive, Scottsdale, AZ 85262. Active ingredient: Tebuconazole. Proposed Use: Application to golf course turf. Contact: Tracy Keigwin, (703) 305-6605, keigwin.tracy@epa.gov.

57. Registration Number/File Symbol: 75753-1, 75753-2. Docket Number: EPA-HQ-OPP-2009-0722. Company name and address: Agriguard Company, LLC, P.O. Box 630, Cranford, NJ 07016. Active ingredient: Furfural. Proposed Use: Application to turf. Contact: Tamue Gibson, (703) 305-9096, gibson.tamue@epa.gov.

58. Registration Number/File Symbol: 84542-U. Docket Number: EPA-HQ-OPP-2009-0794. Company name and address: Cupron Inc., P.O. Box 10973, Greensboro NC 27404. Active ingredient: Cupric Oxide. Proposed Use: Anti-dustmite treated textiles. Contact: Olga Odiott, (703) 308-9369, odiott.olga@epa.gov.

59. Registration Number/File Symbol: 86153-R, 86153-E. Docket Number: EPA-HQ-OPP-2009-0550. Company name and address: Devgen US Inc., 413 McFarlan Road, Suite B, Kennett Square, PA 19348. Active ingredient: Iprodione. Proposed Use: Cucurbits; fruiting vegetables. Contact: Lisa Jones, (703) 308-9424, jones.lisa@epa.gov.

List of Subjects

Environmental protection, Pesticides and pests.

Dated: October 15, 2009.
Lois Rossi,
Director, Registration Division, Office of Pesticide Programs.

[FR Doc. E9-25736 Filed 10-23-09; 8:45 am]

BILLING CODE 6560-50-S